DEPARTMENT OF COMMERCE

Foreign-Trade Zones Board

[S-51-2023]

Approval of Subzone Status; Bollore Logistics USA, Inc.; Conroe, Texas

On March 23, 2023, the Executive Secretary of the Foreign-Trade Zones (FTZ) Board docketed an application submitted by the City of Conroe, grantee of FTZ 265, requesting subzone status subject to the existing activation limit of FTZ 265, on behalf of Bollore Logistics USA, Inc., in Conroe, Texas.

The application was processed in accordance with the FTZ Act and Regulations, including notice in the Federal Register inviting public comment (88 FR 18295, March 28, 2023). The FTZ staff examiner reviewed the application and determined that it meets the criteria for approval.

Pursuant to the authority delegated to the FTZ Board Executive Secretary (15 CFR Sec. 400.36(f)), the application to establish Subzone 265D was approved on May 31, 2023, subject to the FTZ Act and the Board's regulations, including section 400.13, and further subject to FTZ 265's 1,484-acre activation limit.

Dated: May 31, 2023.
Elizabeth Whiteman,
Executive Secretary.

[FR Doc. 2023-11882 Filed 6-2-23; 8:45 am]

BILLING CODE 3510-DS-P